DEPARTMENT OF COMMERCE

International Trade Administration

[C-570-061]

Fine Denier Polyester Staple Fiber From the People's Republic of China: Final Results of the Expedited First Sunset Review of the Countervailing Duty Order

AGENCY: Enforcement and Compliance, International Trade Administration, Department of Commerce.

SUMMARY: As a result of this expedited first sunset review, the U.S. Department of Commerce (Commerce) finds that revocation of the countervailing duty (CVD) order on fine denier polyester staple fiber (fine denier PSF) from the People's Republic of China (China) would be likely to lead to continuation or recurrence of countervailable subsidies at the levels indicated in the “Final Results of Sunset Review” section of this notice.

DATES: Applicable June 2, 2023.

FOR FURTHER INFORMATION CONTACT: George McMahon, AD/CVD Operations, Office VI, Enforcement and Compliance, International Trade Administration, U.S. Department of Commerce, 1401 Constitution Avenue NW, Washington, DC 20230; telephone: (202) 482-1167.

SUPPLEMENTARY INFORMATION:

Background

On February 1, 2023, Commerce published the notice of initiation of the first sunset review of the Order,¹ pursuant to section 751(c) of the Tariff Act of 1930, as amended (Act).² Commerce received a notice of intent to participate from Auriga Polymers Inc., Fiber Industries LLC, Nan Ya Plastics Corporation, America, and Sun Fiber LLC (collectively, domestic interested parties) within the deadline specified in 19 CFR 351.218(d)(1)(i).³ Each claimed interested party status under section 771(9)(C) of the Act as domestic producers engaged in the production of fine denier PSF in the United States.

¹ See Fine Denier Polyester Staple Fiber from the People's Republic of China and India: Amended Final Affirmative Countervailing Duty Determination for the People's Republic of China and Countervailing Duty Orders for the People's Republic of China and India, 83 FR 11681 (March 16, 2018); and Fine Denier Polyester Staple Fiber from the People's Republic of China and India: Amended Final Affirmative Countervailing Duty Determination for the People's Republic of China and Countervailing Duty Orders for the People's Republic of China and India, 83 FR 12149 (March 20, 2018) (collectively, Order).

² See Initiation of Five-Year (Sunset) Reviews, 88 FR 6700 (February 1, 2023) (Initiation Notice).

³ See Domestic Interested Parties' Letter, “Domestic Interested Parties' Notice of Intent to Participate,” dated February 15, 2023.

Commerce received an adequate substantive response to the Initiation Notice from the domestic interested parties within the 30-day deadline specified in 19 CFR 351.218(d)(3)(i).⁴ Commerce received no substantive responses from any other interested party, including the Government of China, nor was a hearing requested.

⁴ See Domestic Interested Parties' Letter, “Domestic Interested Parties' Substantive Response,” dated March 2, 2023.

On March 23, 2023, Commerce notified the U.S. International Trade Commission that it did not receive an adequate substantive response from respondent interested parties.⁵ As a result, pursuant to section 751(c)(3)(B) of the Act and 19 CFR 351.218(e)(1)(ii)(B)(2) and (C)(2), Commerce conducted an expedited (120-day) sunset review of the Order.

⁵ See Commerce's Letter, “Sunset Reviews Initiated on February 1, 2023,” dated March 23, 2023.

Scope of the Order

The product covered by this Order is fine denier PSF from China. For a complete description of the scope of this order, see the Issues and Decision Memorandum.⁶

⁶ See Memorandum, “Issues and Decision Memorandum for the Expedited First Sunset Review of the Countervailing Duty Order on Fine Denier Polyester Staple Fiber from the People's Republic of China,” dated concurrently with, and hereby adopted by, this notice (Issues and Decision Memorandum).

Analysis of Comments Received

All issues raised in this sunset review are addressed in the Issues and Decision Memorandum, including the likelihood of continuation or recurrence of countervailable subsidies and the net countervailable subsidy rates likely to prevail if the Order were revoked.⁷ The issues discussed in the Issues and Decision Memorandum are listed in the appendix to this notice. The Issues and Decision Memorandum is a public document and is on file electronically via Enforcement and Compliance's Antidumping and Countervailing Duty Centralized Electronic Services System (ACCESS). ACCESS is available to registered users at http://access.trade.gov. In addition, a complete version of the Issues and Decision Memorandum can be accessed directly at https://enforcement.trade.gov/frn/index.html.

⁷ Id.

Final Results of Sunset Review

Pursuant to sections 751(c)(1) and 752(b) of the Act, Commerce determines that revocation of the Order would be likely to lead to the continuation or recurrence of countervailable subsidies at the following rates:

Producer/exporter | Subsidy rate (percent ad valorem)
Jiangyin Hailun Chemical Fiber Co. Ltd ⁸ | 37.75
Jiangyin Huahong Chemical Fiber Co. Ltd ⁹ | 47.57
All Others | 42.66

Administrative Protective Order

⁸ Commerce found the following companies to be cross-owned with Jiangyin Hailun Chemical Fiber Co. Ltd.: Jiangyin Bolun Chemical Fiber Co., Ltd.; Jiangyin Fenghua Synthetic Fiber Co., Ltd.; Jiangsu Hailun Petrochemicals Co., Ltd.; Jiangyin Huamei Special Fiber Co., Ltd.; Jiangyin Huasheng Polymerization Co., Ltd.; Jiangyin Huaxing Synthetic Co., Ltd.; Jiangying Huayi Polymerization Co., Ltd.; Jiangsu Sanfangxiang Group Co., Ltd.; Jiangsu Sanfangxiang International Trading Co., Ltd.; Sanhai International Trading PTE Ltd.; Jiangyin Xingsheng Plastic Co., Ltd.; Jiangyin Xingtai New Material Co., Ltd.; Jiangsu Xingye Plastic Co., Ltd.; Jiangsu Xingye Polytech Co., Ltd.; Jiangyin Xingyu New Material Co., Ltd.; Jiangyin Xinlun Chemical Fiber Co., Ltd.; Jiangyin Xinyuan Thermal Power Co., Ltd.; and Jiangyin Yunlun Chemical Fiber Co., Ltd.. See Fine Denier Polyester Staple Fiber from the People's Republic of China: Preliminary Affirmative Countervailing Duty Determination, 82 FR 51396 (November 6, 2017) (Preliminary Determination), and accompany Preliminary Decision Memorandum (PDM).

⁹ Commerce found the following companies to be cross-owned with Jiangyin Huahong Chemical Fiber Co. Ltd.: Jiangsu Huahong Industrial Group Co., Ltd.; Jiangyin Hongkai Chemical Fiber Co., Ltd.; Jiangyin Huahong International Trade Co., Ltd.; and Jiangyin Huakai Polyesterer Co., Ltd. See Preliminary Determination PDM.

This notice serves as the only reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

We are issuing and publishing this notice in accordance with sections 751(c), 752(b), and 777(i)(1) of the Act, and 19 CFR 351.218.

Dated: May 26, 2023.
Lisa W. Wang,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Countervailable Subsidies

2. Net Countervailable Subsidy Rates That Are Likely To Prevail

3. Nature of the Subsidies

VII. Final Results of Sunset Review

VIII. Recommendation

[FR Doc. 2023-11777 Filed 6-1-23; 8:45 am]

BILLING CODE 3510-DS-P